DEPARTMENT OF VETERANS AFFAIRS

Increase in Maximum Tuition and Fee Amounts Payable Under the Post-9/11 GI Bill

AGENCY: Department of Veterans Affairs.

ACTION: Notice.

SUMMARY: The purpose of this notice is to inform the public of the increase in the Post-9/11 GI Bill maximum tuition and fee amounts payable and the increase in the amount used to determine an individual's entitlement charge for reimbursement of a licensing, certification, or national test for the 2018-2019 academic year.

FOR FURTHER INFORMATION CONTACT: Rodney Hopkins, Management and Program Analyst, Education Service (225C), Veterans Benefits Administration, Department of Veterans Affairs, 810 Vermont Avenue NW, Washington, DC 20420, (202) 461-9800 (this is not a toll-free number).

SUPPLEMENTARY INFORMATION: For the 2017-2018 academic year, the Post-9/11 GI Bill allowed VA to pay the actual net cost of tuition and fees not to exceed the in-state amounts for students pursuing training at public schools: $22,805.34 for students training at private and foreign schools, $13,031.61 for students training at vocational flight schools, and $11,076.86 for students training at correspondence schools. Additionally, the entitlement charge for individuals receiving reimbursement of the costs associated with taking a licensing, certification, or national test was 1 month (rounded to the nearest whole month) for each $1,902.61 received.

Sections 3313, 3315, and 3315A of title 38 U.S.C. direct VA to increase the maximum tuition and fee payments and entitlement-charge amounts each academic year (beginning on August 1st) based on the most recent percentage increase determined under 38 U.S.C. 3015(h). The percentage increase is determined under 38 U.S.C. 3015(h). The most recent percentage increase determined under 38 U.S.C. 3015(h) was 3.8 percent, which was effective on October 1, 2017.

The maximum tuition and fee payments and entitlement charge amounts for training pursued under the Post-9/11 GI Bill beginning after July 31, 2018, and before August 1, 2019, are listed below. VA's calculations for the 2018-2019 academic year are based on the 3.8 percent increase.

Signing Authority

The Secretary of Veterans Affairs, or designee, approved this document and authorized the undersigned to sign and submit the document to the Office of the Federal Register for publication electronically as an official document of the Department of Veterans Affairs. Peter O'Rourke, Chief of Staff, Department of Veterans Affairs, approved this document on May 14, 2018, for publication.

Dated: May 14, 2018.
Jeffrey M. Martin,
Impact Analyst, Office of Regulation Policy & Management, Office of the Secretary, Department of Veterans Affairs.

[FR Doc. 2018-10609 Filed 5-17-18; 8:45 am]

BILLING CODE 8320-01-P